DEPARTMENT OF AGRICULTURE

Forest Service

Information Collection; Generic Clearance for Non-Timber Forest Products

AGENCY: Forest Service, USDA.

ACTION: Notice; request for comment.

SUMMARY: In accordance with the Paperwork Reduction Act of 1995, the Forest Service is seeking comments from all interested individuals and organizations on the renewal of our information collection, Non-Timber Forest Products.

DATES: Comments must be received in writing on or before September 8, 2020 to be assured of consideration. Comments received after that date will be considered to the extent practicable.

ADDRESSES: Comments concerning this notice should be addressed to Kenli Kim, National Program Leader for Social Science, Forest Service Research and Development, at kenli.kim@usda.gov. Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at USDA Forest Service, Washington Office—Yates Building during normal business hours. Please email ahead of time to facilitate entry to the building.

FOR FURTHER INFORMATION CONTACT: Kenli Kim, National Program Leader, by email at kenli.kim@usda.gov.

Individuals who use telecommunication devices for the deaf (TDD) may call the Federal Information Relay Service (FIRS) at 1-800-877-8339 twenty-four hours a day, every day of the year, including holidays.

SUPPLEMENTARY INFORMATION: Title: Non-Timber Forest Products.

OMB Number: 0596-0243.

Type of Request: Renewal.

Abstract: Non-timber forest products are plants, mushrooms, and plant-or tree derived goods like nuts, boughs, sap, and leaves that are harvested for food, medicine, arts and crafts, religious and cultural rituals, and other purposes. Some non-timber forest product gathering is formal, meaning it's planned and systematic, while much of it is informal, meaning it's unplanned, opportunistic, and/or incidental to other outdoor recreation activities. For some people, harvested wild plants and mushrooms make up a substantial or nutritionally important part of their diet. In other cases, non-timber forest products are locally or regionally important products for businesses.

Many opportunities exist to manage forests and other natural areas to enhance the supply of non-timber forest products and increase the benefits they provide to society and to maintain populations of important non-timber forest products. Potential public benefits include improved public health outcomes from outdoor activity and access to socially, culturally, and economically significant products. Harvesting and consuming non-timber forest products also may help supplement food sources for people with limited access to fresh, affordable food.

Many laws and policies direct the USDA Forest Service to consider and manage for non-timber forest products for the benefit of the American public. The Forest Service must also meet trust responsibilities to American Indians and Alaskan Natives on federal and tribal lands. Managing forests and other natural areas to provide non-timber forest products in a sustainable way requires more detailed, science-based information. Gaining new information can help us understand how uses of non-timber forest products have changed over time in response to management, socio-cultural circumstances, economic conditions, and environmental change.

The USDA Forest Service is seeking OMB approval to renew an existing information collection that enables us to better understand non-timber forest products by asking questions of people who harvest non-timber forest products and of people who manage, make policies for, or have a stake in the management of lands where non-timber forest products may be harvested.

Affected Public: Individuals and Households, Businesses and Non-Profit Organizations, and/or State, Local or Tribal Government.

Estimate of Burden per Response: 25 minutes for survey; 60 minutes for interview; 90 minutes for focus group.

Estimated Annual Number of Respondents: 1300.

Estimated Annual Number of Responses per Respondent: 1.

Estimated Total Annual Burden on Respondents: 276 hours.

Comment is Invited:

Comment is invited on: (1) Whether this collection of information is necessary for the stated purposes and the proper performance of the functions of the Forest Service, including whether the information will have practical or scientific utility; (2) the accuracy of the Forest Service's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Alexander Friend,
Deputy Chief, Research & Development.

[FR Doc. 2020-14703 Filed 7-7-20; 8:45 am]

BILLING CODE 3411-15-P